INTERNATIONAL TRADE COMMISSION

[Investigation No. 332-325]

The Economic Effects of Significant U.S. Import Restraints; Ninth Update; Special Topic: The Effects of Tariffs and of Customs and Border Procedures on Global Supply Chains

AGENCY: United States International Trade Commission.

ACTION: Notice of ninth update report, scheduling of public hearing, opportunity to file written submissions.

SUMMARY: Following receipt of a letter dated September 13, 2016 from the United States Trade Representative (USTR), the U.S. International Trade Commission (Commission) has announced its schedule for preparing the ninth update report in investigation No. 332-325, The Economic Effects of Significant U.S. Import Restraints, including the scheduling of a public hearing in connection with this update report for February 9, 2017. This year's report will include a chapter on the effects of tariffs and customs and border procedures on global supply chains.

DATES: January 26, 2017: Deadline for filing requests to appear at the public hearing.

January 30, 2017: Deadline for filing pre-hearing briefs and statements.

February 9, 2017: Public hearing.

February 16, 2017: Deadline for filing post-hearing briefs and statements.

March 1, 2017: Deadline for filing all other written submissions.

September 13, 2017: Transmittal of Commission report to USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader William Deese (william.deese@usitc.gov. or 202-205-2626) or Deputy Project Leader Lesley Ahmed (lesley.ahmed@usitc.gov) for information specific to this investigation (the eighth update). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (https://www.usitc.gov). Persons with mobility impairments who will need special assistance in gaining access to the Commission should contact the Office of the Secretary at 202-205-2000.

Background

The Commission instituted this investigation under section 332(g) of the Tariff Act of 1930 (19 U.S.C. 1332(g)) following receipt of an initial request from the USTR dated May 15, 1992. The request asked that the Commission assess the quantitative economic effects of significant U.S. import restraints on the U.S. economy and prepare periodic update reports after the initial report. The Commission published a notice of institution of the investigation in the Federal Register of June 17, 1992 (57 FR 27063). The first report was delivered to the USTR in November 1993, the first update in December 1995, and successive updates were delivered in 1999, 2002, 2004, 2007, 2009, 2011, and 2013.

In this ninth update, as requested by the USTR in a letter dated September 13, 2016, the Commission will provide, in addition to the quantitative effects analysis similar to that included in prior reports, an assessment of how significant U.S. import restraints affect households with different incomes and a special chapter that presents an overview of the effects of tariffs and customs and border procedures on global supply chains.

The report will, to the extent practicable, describe the cumulative effects of tariffs and customs and border procedures on goods traded in global supply chains. It will include the effect on services to the extent that they depend on goods traded across borders. The report will also provide an overview of recent literature that discusses the effect of these costs along the supply chain. Finally, the report will include case studies in relevant industries that examine supply chain inefficiencies stemming from customs and border procedures abroad.

As in previous reports in this series, the ninth update will continue to assess the economic effects of significant import restraints on U.S. consumers and firms, the income and employment of U.S. workers, and the net economic welfare of the United States. This assessment will use the Commission's computable general equilibrium model of the U.S. economy. However, as per earlier instructions from the USTR, the Commission will not assess import restraints resulting from antidumping or countervailing duty investigations, section 337 and 406 investigations, or section 301 actions.

Public Hearing

A public hearing in connection with this investigation will be held at the United States International Trade Commission Building, 500 E Street SW., Washington, DC, beginning at 9:30 a.m. on February 9, 2017. Requests to appear at the hearing should be filed with the Secretary no later than 5:15 p.m., January 26, 2016, in accordance with the requirements in the “Submissions” section below. All pre-hearing briefs and statements should be filed not later than 5:15 p.m., January 30, 2017; and all post-hearing briefs and statements addressing matters raised at the hearing should be filed not later than 5:15 p.m., February 16, 2017. In the event that, as of the close of business on January 26, 2017, no witnesses are scheduled to appear at the hearing, the hearing will be canceled. Any person interested in attending the hearing as an observer or nonparticipant may call the Secretary to the Commission (202-205-2000) after January 26, 2017, for information concerning whether the hearing will be held.

Written Submissions: In lieu of or in addition to participating in the hearing, interested parties are invited to file written submissions concerning this investigation. All written submissions should be addressed to the Secretary, and should be received not later than 5:15 p.m., March 1, 2017. All written submissions must conform to the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraphs for further information regarding confidential business information). Persons with questions regarding electronic filing should contact the Office of the Secretary, Docket Services Division (202-205-1802).

Confidential Business Information

Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

The Commission will not include any confidential business information in the report that it sends to the USTR or makes available to the public. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a manner that would reveal the operations of the firm supplying the information.

Summaries of Written Submissions

The Commission intends to publish summaries of the positions of interested persons. Persons wishing to have a summary of their position included in the report should include a summary with their written submission. The summary may not exceed 500 words, should be in MS Word format or a format that can be easily converted to MS Word, and should not include any confidential business information. The summary will be published as provided if it meets these requirements and is germane to the subject matter of the investigation. The Commission will identify the name of the organization furnishing the summary and will include a link to the Commission's Electronic Document Information System (EDIS) where the full written submission can be found.

By order of the Commission.
Issued: October 11, 2016.
Lisa Barton,
Secretary to the Commission.

[FR Doc. 2016-24984 Filed 10-14-16; 8:45 am]

BILLING CODE 7020-02-P